DEPARTMENT OF DEFENSE

Department of the Army, Corps of Engineers

Intent To Prepare a Draft Environmental Impact Statement (DEIS) for the State of Alaska's Proposed Alaska Stand Alone Pipeline (ASAP) Natural Gas Transportation Pipeline

AGENCY: U.S. Army Corps of Engineers, DoD.

ACTION: Notice of Intent.

SUMMARY: The Alaska District, U.S. Army Corps of Engineers (Corps) intends to prepare a Draft Environmental Impact Statement (DEIS) to identify and analyze the potential impacts associated with the construction of the proposed Alaska Stand Alone Pipeline (ASAP) natural gas transportation pipeline. The Corps is the lead federal agency and the Bureau of Land Management (BLM), National Park Service (NPS) and Environmental Protection Agency (EPA) are participating as cooperating agencies in the DEIS development process. The Environmental Impact Statement (EIS) will be used as a basis for the Corps permit decision and to ensure compliance with the National Environmental Policy Act (NEPA). The Corps will be evaluating a permit application for work under Section 10 of the Rivers and Harbors Act and Section 404 of the Clean Water Act. Because ASAP would require decisions and actions by other federal agencies (such as right-of-way grants and other permits), this DEIS will also fulfill the NEPA responsibilities of those federal agencies.

FOR FURTHER INFORMATION CONTACT: Questions about the proposed action and the DEIS can be answered by: Ms. Serena Sweet, Regulatory Division, telephone: (907) 753-2819, toll free in AK: (800) 478-2712, fax: (907) 753-5567, e-mail: serena.e.sweet@usace.army.mil, or mail: U.S. Army Corps of Engineers, CEPOA-RD, Post Office Box 6898, Elmendorf AFB, Alaska 99506-0898. Additional information may be obtained at http://www.asapeis.com.

SUPPLEMENTARY INFORMATION: 1. The permit applicant, the State of Alaska, is proposing to construct a 24-inch diameter, high-pressure pipeline from Alaska's North Slope to Cook Inlet to transport North Slope natural gas to in-state Alaska markets. The pipeline would be located entirely within the State of Alaska. Gas off-take would be provided for the Fairbanks Area and in other locations along the route. The Alaska Stand Alone Pipeline project includes a Gas Conditioning Plant on the North Slope prior to the pipeline inlet, compressor stations along the pipeline, and natural gas liquid (NGL) extraction facilities to produce utility-grade natural gas. The gas reserves in the Prudhoe Bay field are some of the largest on the North Slope and represent the most likely sources of gas for the pipeline system.

2. Alternatives: Two routing options are being considered to bring the gas from the North Slope to Alaska consumers. These two options follow routings from Prudhoe Bay to Cook Inlet via the Parks Highway and the Richardson Highway. Both route options share the same starting point at Prudhoe Bay and ending point (at Mile Post 55 of the Beluga Pipeline) as well as a common routing from Prudhoe Bay to the Livengood area. In addition, two spur line options and two pre-build options, using a proposed Alaska-Canada Gasline as the transport to the takeoff points will be included in this analysis.

a. Stand Alone Alternative Routes:

i. Parks Highway Stand Alone—from Prudhoe Bay to Livengood, then to Cook Inlet generally following the Parks Highway; includes service to Fairbanks.

ii. Richardson Highway Stand Alone—from Prudhoe Bay to Livengood, to Fairbanks, then generally following the Trans Alaska Pipeline alignment to Delta Junction, to north of Glennallen via the Richardson Highway, then to Cook Inlet via the Glenn Highway; includes service to Glennallen.

b. Spur Alternative Routes:

i. Parks Highway Spur—from Fairbanks to Cook Inlet generally following the Parks Highway.

ii. Richardson Highway Spur—from Delta Junction to north of Glennallen via the Richardson Highway, then to Cook Inlet via the Glenn Highway; includes service to Glennallen.

c. Pre-Build Alternative Routes:

i. Parks Highway Pre-Build—from Cook Inlet to Fairbanks generally following the Parks Highway.

ii. Richardson Highway Pre-Build—from Cook Inlet via the Glenn Highway to north of Glennallen then to Delta Junction via the Richardson Highway, then generally following the Trans Alaska Pipeline alignment to Fairbanks (with a smaller diameter pipeline).

d. Gas Source Alternatives:

i. Prudhoe Bay Gas Source: Natural gas from the Prudhoe Bay gas fields would require treatment at a gas treatment plant that would likely be located at Prudhoe Bay. From Prudhoe Bay the gas pipeline would generally follow the existing Trans Alaska Pipeline System (TAPS) corridor across the North Slope and enter the Brooks Range near Galbraith Lake.

ii. Gubik Gas Source: The Gubik Gas Field is located 19 miles east of Umiat and approximately 70 miles west of TAPS Pump Station #2. The pipeline from the Gubik Field would parallel a proposed road alignment to the east, crossing the Anaktuvuk River, and proceeding southeast to the Itkillik River. The route would then parallel the Itkillik River to the east side of Itigaknit Mountain then south to connect with the TAPS Corridor near Toolik Lake. The exact location of the Gubik production facilities has not been selected. The length of the Gubik Pipeline route to the TAPS corridor is estimated to be about 90 miles.

3. Scoping Process: The scoping period will begin on December 7, 2009, and end on February 5, 2010.

a. The Corps invites full public participation to promote open communication on the issues surrounding the proposal. All federal, state, Tribal, local agencies, and other persons or organizations that have an interest are urged to participate in the NEPA scoping process. Scoping meetings will be held to receive public input on the proposed purpose and need of the project, to identify significant issues and to discuss proposed alternatives. The scoping process will help to further explain the purpose and need plus the alternatives to be reviewed in the DEIS.

b. The scoping meetings are tentatively planned for the dates and locations listed at http://www.asapeis.com (please consult website for any changes and additional information including the scoping summary). The Corps expects to hold scoping meetings in Anchorage, Barrow, Delta Junction, Fairbanks, Glennallen, McKinley Park, Nenana, and Wasilla.

4. The lands along the proposed pipeline corridor and one or more of its alternatives are owned by numerous entities; including, federal and state governments, the State of Alaska, and private land holders. These federal land managers include the BLM, NPS and the Department of Defense. Private landholders include Native corporations, Native allottees, and land owned by other private individuals.

5. The DEIS will analyze the potential social, economic, and environmental impacts to the affected areas. The following major issues will be analyzed in depth in the DEIS: the natural gas delivery system construction and operation and its affect upon the surrounding communities; essential fish habitat; threatened and endangered species including critical habitat; cultural resources; socioeconomics; and secondary and cumulative impacts.

6. It is anticipated that the DEIS will be available August 2010 for public review.

Dated: November 23, 2009.
Serena E. Sweet,
Project Manager, Alaska District, U.S. Army Corps of Engineers.

[FR Doc. E9-28865 Filed 12-3-09; 8:45 am]

BILLING CODE 3720-58-P